DEPARTMENT OF LABOR

Employment and Training Administration

[TA-W-62,677]

Llink Technologies, LLC, Brown City, MO; Notice of Termination of Investigation

Pursuant to section 221 of the Trade Act of 1974, as amended, an investigation was initiated on January 14, 2008 in response to a petition filed by a company official on behalf of workers of Llink Technologies, LLC, Brown City, Missouri.

The Department has determined that this petition is a photocopy of petition number TA-W-62,630, instituted on January 3, 2008. The investigation of that petition is ongoing and determination has not yet been issued. Therefore, further investigation in the case would serve no purpose, and this investigation has been terminated.

Signed at Washington, DC, this 23rd day of January, 2008.
Elliott S. Kushner,
Certifying Officer, Division of Trade Adjustment Assistance.

[FR Doc. E8-1828 Filed 1-31-08; 8:45 am]

BILLING CODE 4510-FN-P